DEPARTMENT OF ENERGY

Federal Energy Regulatory Commission

Combined Notice of Filings #1

Take notice that the Commission received the following electric corporate filings:

Docket Numbers: EC14-38-000.

Applicants: Minonk Wind, LLC, Sandy Ridge Wind, LLC, Algonquin Power Fund (America) Inc., Algonquin Power Fund (America) Holdco Inc., Gamesa Wind US, LLC.

Description: Application for Authorization of Disposition of Facilities under Section 203 of the Federal Power Act and Requests for Confidential Treatment, Expedited Consideration and Waivers of Minonk Wind, LLC, et al.

Filed Date: 12/19/13.

Accession Number: 20131219-5237.

Comments Due: 5 p.m. ET 1/9/14.

Take notice that the Commission received the following electric rate filings:

Docket Numbers: ER10-1790-010; ER11-2029-003.

Applicants: BP Energy Company, Cedar Creek II, LLC.

Description: Updated Market Power Analysis for Northwest Region of BP Energy Company and Cedar Creek II, LLC.

Filed Date: 12/20/13.

Accession Number: 20131220-5181.

Comments Due: 5 p.m. ET 2/18/14.

Docket Numbers: ER13-630-000.

Applicants: Arizona Public Service Company.

Description: Arizona Public Service Company submits Exhibit U to the supplement to the pending updated Market Power Analysis.

Filed Date: 12/18/13.

Accession Number: 20131219-0012.

Comments Due: 5 p.m. ET 1/8/14.

Docket Numbers: ER14-714-000.

Applicants: Essential Power Rock Springs, LLC.

Description: Essential Power Rock Springs, LLC submits Notice of Succession to be effective 2/26/2013.

Filed Date: 12/19/13.

Accession Number: 20131219-5141.

Comments Due: 5 p.m. ET 1/9/14.

Docket Numbers: ER14-715-000.

Applicants: Essential Power OPP, LLC.

Description: Essential Power OPP, LLC submits Notice of Succession to be effective 2/26/2013.

Filed Date: 12/19/13.

Accession Number: 20131219-5149.

Comments Due: 5 p.m. ET 1/9/14.

Docket Numbers: ER14-716-000.

Applicants: Cleco Power LLC.

Description: Cleco Power LLC submits Notice of Cancellation of Cleco Power LLC OATT to be effective 12/19/2013.

Filed Date: 12/19/13.

Accession Number: 20131219-5168.

Comments Due: 5 p.m. ET 1/9/14.

Docket Numbers: ER14-717-000.

Applicants: NorthWestern Corporation.

Description: NorthWestern Corporation submits OATT Order No. 784 Compliance Filing (Montana) to be effective 2/17/2014.

Filed Date: 12/19/13.

Accession Number: 20131219-5169.

Comments Due: 5 p.m. ET 1/9/14.

Docket Numbers: ER14-718-000.

Applicants: Attala Transmission LLC.

Description: Attala Transmission LLC submits Notice of Cancellation of Attala Transmission LLC OATT to be effective 12/19/2013.

Filed Date: 12/19/13.

Accession Number: 20131219-5173.

Comments Due: 5 p.m. ET 1/9/14.

Docket Numbers: ER14-719-000.

Applicants: Perryville Energy Partners L.L.C.

Description: Perryville Energy Partners L.L.C. submits Notice of Cancellation of Perryville Energy Partners, L.L.C. OATT to be effective 12/19/2013.

Filed Date: 12/19/13.

Accession Number: 20131219-5189.

Comments Due: 5 p.m. ET 1/9/14.

Docket Numbers: ER14-720-000.

Applicants: California Independent System Operator Corporation.

Description: California Independent System Operator Corporation submits 2013-12-19_Order676G_Compliance to be effective 2/18/2014.

Filed Date: 12/19/13.

Accession Number: 20131219-5190.

Comments Due: 5 p.m. ET 1/9/14.

Docket Numbers: ER14-721-000.

Applicants: Midcontinent Independent System Operator, Inc.

Description: Midcontinent Independent System Operator, Inc. submits 12-19-13 Clean-Up Filing to be effective 12/20/2013.

Filed Date: 12/19/13.

Accession Number: 20131219-5216.

Comments Due: 5 p.m. ET 1/9/14.

Docket Numbers: ER14-722-000.

Applicants: Utility Expense Reduction, LLC.

Description: Utility Expense Reduction, LLC submits Utility Expense Reduction, LLC Market-Based Rate Tariff to be effective 2/3/2014.

Filed Date: 12/19/13.

Accession Number: 20131219-5217.

Comments Due: 5 p.m. ET 1/9/14.

Docket Numbers: ER14-723-000.

Applicants: Tampa Electric Company.

Description: Tampa Electric Company submits Cancellation of Sixth Revised Rate Schedule No. 49—Auburndale to be effective 1/1/2014.

Filed Date: 12/19/13.

Accession Number: 20131219-5218.

Comments Due: 5 p.m. ET 1/9/14.

Docket Numbers: ER14-724-000.

Applicants: Westar Energy, Inc.

Description: Westar Energy, Inc. submits Market-Based Rate Tariff Revision to be effective 3/1/2014.

Filed Date: 12/19/13.

Accession Number: 20131219-5225.

Comments Due: 5 p.m. ET 1/9/14.

Docket Numbers: ER14-725-000.

Applicants: MidAmerican Energy Company.

Description: MidAmerican Energy Company submits tariff filing per 35.13(a)(2)(iii: Market-Based Rate Tariff—2nd Revised to be effective 12/19/2013.

Filed Date: 12/20/13.

Accession Number: 20131220-5030.

Comments Due: 5 p.m. ET 1/10/14.

Docket Numbers: ER14-726-000.

Applicants: NorthWestern Corporation.

Description: NorthWestern Corporation submits OATT Order No. 784 Compliance Filing (South Dakota) to be effective 2/18/2014.

Filed Date: 12/20/13.

Accession Number: 20131220-5032.

Comments Due: 5 p.m. ET 1/10/14.

Docket Numbers: ER14-727-000.

Applicants: ISO New England Inc., New England Power Pool Participants Committee.

Description: ISO New England Inc. submits Demand Response Baseline Changes to be effective 6/1/2014.

Filed Date: 12/20/13.

Accession Number: 20131220-5039.

Comments Due: 5 p.m. ET 1/10/14.

Docket Numbers: ER14-728-000.

Applicants: CalEnergy, LLC.

Description: CalEnergy, LLC submits Amendment to Market Based Rate Tariff to be effective 12/19/2013.

Filed Date: 12/20/13.

Accession Number: 20131220-5045.

Comments Due: 5 p.m. ET 1/10/14.

Docket Numbers: ER14-729-000.

Applicants: Louisville Gas and Electric Company.

Description: Louisville Gas and Electric Company submits OATT Schedule 3 Order 784 Compliance Filing to be effective 12/27/2013.

Filed Date: 12/20/13.

Accession Number: 20131220-5046.

Comments Due: 5 p.m. ET 1/10/14.

Docket Numbers: ER14-730-000.

Applicants: CE Leathers Company.

Description: CE Leathers Company submits Amendment to Market Based Rate Tariff to be effective 12/19/2013.

Filed Date: 12/20/13.

Accession Number: 20131220-5047.

Comments Due: 5 p.m. ET 1/10/14.

Docket Numbers: ER14-731-000.

Applicants: Del Ranch Company.

Description: Del Ranch Company submits tariff filing per 35: Amendment to Market Based Rate Tariff to be effective 12/19/2013.

Filed Date: 12/20/13.

Accession Number: 20131220-5048.

Comments Due: 5 p.m. ET 1/10/14.

Docket Numbers: ER14-732-000.

Applicants: Elmore Company.

Description: Elmore Company submits Amendment to Market Based Rate Tariff to be effective 12/19/2013.

Filed Date: 12/20/13.

Accession Number: 20131220-5049.

Comments Due: 5 p.m. ET 1/10/14.

Docket Numbers: ER14-733-000.

Applicants: Fish Lake Power LLC.

Description: Fish Lake Power LLC submits Amendment to Market Based Rate Tariff to be effective 12/19/2013.

Filed Date: 12/20/13.

Accession Number: 20131220-5050.

Comments Due: 5 p.m. ET 1/10/14.

Docket Numbers: ER14-734-000.

Applicants: Salton Sea Power L.L.C.

Description: Salton Sea Power L.L.C. submits Amendment to Market Based Rate Tariff to be effective 12/19/2013.

Filed Date: 12/20/13.

Accession Number: 20131220-5051.

Comments Due: 5 p.m. ET 1/10/14.

Docket Numbers: ER14-735-000.

Applicants: Salton Sea Power Generation Company.

Description: Salton Sea Power Generation Company submits Amendment to Market Based Rate Tariff to be effective 12/19/2013.

Filed Date: 12/20/13.

Accession Number: 20131220-5052.

Comments Due: 5 p.m. ET 1/10/14.

Take notice that the Commission received the following land acquisition reports:

Docket Numbers: LA13-3-000.

Applicants: Ashtabula Wind, LLC, Ashtabula Wind II, LLC, Ashtabula Wind III, LLC, Backbone Mountain Windpower LLC, Badger Windpower, LLC, Baldwin Wind, LLC, Bayswater Peaking Facility, LLC, Blackwell Wind, LLC, Butler Ridge Wind Energy Center, LLC, Cimarron Wind Energy, LLC, Crystal Lake Wind, LLC, Crystal Lake Wind II, LLC, Crystal Lake Wind III, LLC, Day County Wind, LLC, Diablo Winds, LLC, Desert Sunlight 250, LLC, Desert Sunlight 300, LLC, Elk City Wind, LLC, Elk City II Wind, LLC, Ensign Wind, LLC, ESI Vansycle Partners, L.P., Florida Power & Light Co., FPL Energy Burleigh County Wind, LLC, FPL Energy Cabazon Wind, LLC, FPL Energy Cape, LLC, FPL Energy Cowboy Wind, LLC, FPL Energy Green Power Wind, LLC, FPL Energy Hancock County Wind, LLC, FPL Energy Illinois Wind, LLC, FPL, Energy Maine Hydro LLC, FPL Energy Marcus Hook, L.P., FPL Energy MH50 L.P., FPL Energy Montezuma Wind, LLC, FPL Energy Mower County, LLC, FPL Energy New Mexico Wind, LLC, FPL Energy North Dakota Wind, LLC, FPL Energy North Dakota Wind II, LLC, FPL Energy Oklahoma Wind, LLC, FPL Energy Oliver Wind I, LLC, FPL Energy Oliver Wind II, LLC, FPL Energy Sooner Wind, LLC, FPL Energy South Dakota Wind, LLC, FPL Energy Stateline II, Inc., FPL Energy Vansycle, LLC, FPL Energy Wyman, LLC, FPL Energy Wyman IV, LLC, FPL Energy Wyoming, LLC, Garden Wind, LLC, Gray County Wind Energy, LLC, Hatch Solar Energy Center I, lLC, Hawkeye Power Partners, LLC, High Majestic Wind Energy Center, LLC, High Winds, LLC, High Majestic Wind II, LLC, Jamaica Bay Peaking Facility, LLC, Lake Benton Power Partners II, LLC, Langdon Wind, LLC, Limon Wind, LLC, Limon Wind II, LLC, Logan Wind Energy LLC, Meyersdale Windpower LLC, Mill Run Windpower, LLC, Minco Wind, LLC, Minco Wind II, LLC, Minco Wind III, LLC, Minco Wind Interconnection Services, LLC, Mountain View Solar, LLC, NEPM II, LLC, NextEra Energy Duane Arnold, LLC, NextEra Energy Montezuma II Wind, LLC, NextEra Energy Power Marketing, LLC, NextEra Energy Point Beach, LLC, NextEra Energy Seabrook, LLC, NextEra Energy Services Massachusetts, LLC, Northeast Energy Associates, A Limited Partnership, North Jersey Energy Associates, A Limited Partnership, North Sky River Energy, LLC, Northern Colorado Wind Energy, LLC, Osceola Windpower, LLC, Osceola Windpower II, LLC, Paradise Solar Urban Renewal, L.L.C., Peetz Table Wind Energy, LLC, Pennsylvania Windfarms, Inc., Perrin Ranch Wind, LLC, Pheasant Run Wind, LLC, Pheasant Run Wind II, LLC, Red Mesa Wind, LLC, Sky River LLC, Somerset Windpower, LLC, Steele Flats Wind Project, LLC, Story Wind, LLC, Tuscola Bay Wind, LLC, Tuscola Wind II, LLC, Vasco Winds, LLC, Victory Garden Phase IV, LLC, Waymart Wind Farm, L.P., Wessington Wind Energy Center, LLC, White Oak Energy LLC, Wilton Wind II, LLC, Windpower Partners 1993, L.P.

Description: Quarterly Land Acquisition Report of the NextEra Energy Companies.

Filed Date: 12/19/13.

Accession Number: 20131219-5242.

Comments Due: 5 p.m. ET 1/9/14.

Take notice that the Commission received the following public utility holding company filings:

Docket Numbers: PH14-4-000.

Applicants: NV Energy, Inc.

Description: Notice of Material Change In Facts_FERC-65B of NV Energy, Inc.

Filed Date: 12/19/13.

Accession Number: 20131219-5246.

Comments Due: 5 p.m. ET 1/9/14.

Take notice that the Commission received the following electric reliability filings:

Docket Numbers: RR13-12-001.

Applicants: Western Electricity Coordinating Council.

Description: Compliance Filing of Western Electricity Coordinating Council.

Filed Date: 12/19/13.

Accession Number: 20131219-5243.

Comments Due: 5 p.m. ET 1/9/14.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: December 20, 2013.
Nathaniel J. Davis, Sr.,
Deputy Secretary.

[FR Doc. 2013-31382 Filed 12-31-13; 8:45 am]

BILLING CODE 6717-01-P